DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

Burlington Northern Sante Fe Railway

[Docket Number FRA-2002-13399]

Burlington Northern Sante Fe Railway (BNSF) seeks a waiver of compliance from certain provisions of the Power Brakes and Drawbars regulations, 49 CFR part 232, regarding initial terminal road train air brake tests. Specifically, BNSF requests permission to perform the required initial terminal air brake test at a location approximately three miles east of where the train is presently tested, which would require the train to move the three miles without the required air brake test.

BNSF is working with Southeast Nebraska Cooperative (SE Coop) at Beatrice, Nebraska to establish a 110-car grain shuttle facility. The site of this facility is the present SE Coop elevator. The elevator tracks will have to be upgraded to function as a shuttle load-out. The shuttles will be loaded on the elevator's private track and then shoved on additional trackage leased by BNSF to SE Coop. This additional trackage consists of the former BNSF main track, which is now operated as “other than main track” (GCOR Rule 6.28). The trackage to be leased extends from former MP30.5, south of Highway 136, to just short of a road crossing at former MP 31.9. This leased trackage will be protected from the BNSF environment by derails fitted with private industry locks. As the cars are loaded and shoved out onto the leased trackage, SE Coop will be responsible by contract to ensure that air hoses are coupled and angle cocks are properly positioned. When BNSF train crews come on duty after a train is loaded, they will couple the outbound locomotives for the eastbound movement to Lincoln, Nebraska. The conductor will be transported by vehicle to the rear of the train to install and arm the end-of-train device and check for air continuity by an application and release of air brakes.

At the above location between MP 31 and 31.9, an extreme slope of the shoulder exists with water draining into a deep ditch from the adjacent slopes. Within this mile of track there are a bridge over the Blue River and a relief bridge without adequate walking surfaces. Two overpasses and heavy ballast also present walking problems. BNSF does not believe this site is suitable for a train inspection and initial terminal air brake test. BNSF is requesting an exemption to move these trains to a more desirable location to perform the required inspections and tests. Due to crossings, the best location is approximately three miles east on the former main track between MP 28.7 and MP 27.5 on “other than main track” with a maximum speed limit of 10 mph. All trains moving to this location from the elevator will have been continuity tested by an application and release of the air brakes as previously stated. The testing site will be graded to ensure that walking conditions will allow for quality train inspections and tests to be performed in a safe and efficient manner. BNSF will have all requirements written into the general orders.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2002-13399) and must be submitted to the Docket Clerk, DOT Central Docket Management Facility, Room PL-401 (Plaza Level), 400 Seventh Street, SW., Washington, DC 20590-0001. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's web site at http://dms.dot.gov.

Issued in Washington, DC. on October 10, 2002.
Grady C. Cothen, Jr.,
Deputy Associate Administrator for Safety Standards and Program Development.

[FR Doc. 02-26467 Filed 10-17-02; 8:45 am]

BILLING CODE 4910-06-P